DEPARTMENT OF COMMERCE

National Institute of Standards and Technology

Roundtable on Federal Government Engagement in Standards

AGENCY: National Institute of Standards and Technology (NIST), United States Department of Commerce (DoC).

ACTION: Notice of public meeting.

SUMMARY: NIST invites stakeholders (e.g., industry, standards setting organizations, academia, trade associations, professional societies, and Federal, State and local government agencies, etc.) involved in standardization (standards setting and the use of standards) to attend a public meeting. The purpose of the meeting is to discuss the Federal government's role in standards development and use to address national priorities. Registration for attending the event is strongly encouraged. The roundtable will also be webcast live.

DATES: The public meeting will be held on Tuesday, January 25, 2011 from 9:30 a.m. to 12 p.m. Pre-registration must be completed by 12 p.m. on Monday, January 24, 2011.

ADDRESSES: The public meeting will be held in the U.S. Department of Commerce Herbert C. Hoover Building Auditorium, 1401 Constitution Avenue, NW., Washington, DC. Please note registration and admittance instructions under the SUPPLEMENTARY INFORMATION section of this notice. A link to the webcast will be posted at: http://www.nist.gov prior to the event.

FOR FURTHER INFORMATION CONTACT: Nick Sinai at 240-751-5615 or by e-mail at Nick.sinai@nist.gov. Media inquiries should be directed to NIST Public and Business Affairs at 301-975-NIST or inquiries@nist.gov.

SUPPLEMENTARY INFORMATION: Achieving national priorities such as the development and deployment of a Smart Grid, secure and interoperable electronic health records, cybersecurity, cloud computing, and interoperability in emergency communications depends upon interoperable standards. Consensus standards for these new technology sectors are helping drive innovation, economic growth, and job creation.

The DoC and NIST are hosting a moderated panel discussion with thought leaders from industry and academia to address the following questions: What is an appropriate role for the Federal government in convening industry stakeholders and catalyzing standards development and use? How should the Federal government engage in sectors where there is a compelling national interest? How are existing public-private initiatives in standardization working?

On December 8, 2010, NIST issued a Request for Information (RFI) (75 FR 76397) seeking stakeholder input on the “Effectiveness of Federal Agency Participation in Standardization in Select Technology Sectors for the National Science and Technology Council's Sub-Committee on Standardization.” All interested parties are encouraged to respond to the RFI, regardless of their attendance at the roundtable.

All visitors to the event are strongly encouraged to pre-register. Admittance without pre-registration cannot be assured. The deadline for registration is 12 p.m. on Monday, January 24, 2011. Information about the event, including a draft agenda, confirmed panelists, registration information and webcast information will be available at: http://www.nist.gov/allevents.cfm. Registration for the roundtable can be done at: https://www-s.nist.gov/CRS/conf_disclosure.cfm?CFID%3D2300429%26CFTOKEN%3D60db85ca1a63b0f5%2DF8BD1368%2DB117%2DE1FB%2D3C762C197F4DAA57%26jsessionid%3D84304151c01bdf203d52252a124b13192e13&conf_id=4627. Stakeholders following the roundtable on the webcast can e-mail questions to Standards_Roundtable@nist.gov.

Dated: January 13, 2011.
Charles H. Romine,
Acting Associate Director for Laboratory Programs.

[FR Doc. 2011-1003 Filed 1-18-11; 8:45 am]

BILLING CODE 3510-13-P